NATIONAL FOUNDATION ON THE ARTS AND THE HUMANITIES

National Endowment for the Arts

Arts Advisory Panel Meetings

AGENCY: National Endowment for the Arts.

ACTION: Notice of meetings.

SUMMARY: Pursuant to the Federal Advisory Committee Act, as amended, notice is hereby given that 34 meetings of the Arts Advisory Panel to the National Council on the Arts will be held by teleconference or videoconference.

DATES: See the SUPPLEMENTARY INFORMATION section for individual meeting times and dates. All meetings are Eastern time and ending times are approximate:

ADDRESSES: National Endowment for the Arts, Constitution Center, 400 7th St. SW, Washington, DC 20506.

FOR FURTHER INFORMATION CONTACT: Further information with reference to these meetings can be obtained from Daniel Beattie, Office of Guidelines & Panel Operations, National Endowment for the Arts, Washington, DC 20506; ogpo@arts.gov, or call 202-682-5688.

SUPPLEMENTARY INFORMATION: The closed portions of meetings are for the purpose of Panel review, discussion, evaluation, and recommendations on financial assistance under the National Foundation on the Arts and the Humanities Act of 1965, as amended, including information given in confidence to the agency. In accordance with the determination of the Chair of March 11, 2022, these sessions will be closed to the public pursuant to 5 U.S.C. 10.

The upcoming meetings are:

Film & Media Arts (review of applications): This meeting will be closed.

Date and time: December 15, 2025; 11:30 a.m. to 1:30 p.m.

Film & Media Arts (review of applications): This meeting will be closed.

Date and time: December 15, 2025; 2:30 p.m. to 4:30 p.m.

Music Theater (review of applications): This meeting will be closed.

Date and time: December 16, 2025; 12:00 p.m. to 2:00 p.m.

Theater (review of applications): This meeting will be closed.

Date and time: December 16, 2025; 12:00 p.m. to 2:00 p.m.

Locals (review of applications): This meeting will be closed.

Date and time: December 16, 2025; 1:00 p.m. to 3:00 p.m.

Theater (review of applications): This meeting will be closed.

Date and time: December 17, 2025; 12:00 p.m. to 2:00 p.m.

Theater (review of applications): This meeting will be closed.

Date and time: December 17, 2025; 3:00 p.m. to 5:00 p.m.

Visual Arts (review of applications): This meeting will be closed.

Date and time: December 18, 2025; 11:30 a.m. to 1:30 p.m.

Visual Arts (review of applications): This meeting will be closed.

Date and time: December 18, 2025; 2:30 p.m. to 4:30 p.m.

Visual Arts (review of applications): This meeting will be closed.

Date and time: December 19, 2025; 11:30 a.m. to 1:30 p.m.

Music (review of applications): This meeting will be closed.

Date and time: January 13, 2026; 12:00 p.m. to 2:00 p.m.

Music (review of applications): This meeting will be closed.

Date and time: January 13, 2026; 3:00 p.m. to 5:00 p.m.

Museums (review of applications): This meeting will be closed.

Date and time: January 13, 2026; 11:30 a.m. to 1:30 p.m.

Museums (review of applications): This meeting will be closed.

Date and time: January 13, 2026; 2:30 p.m. to 4:30 p.m.

Music (review of applications): This meeting will be closed.

Date and time: January 14, 2026; 12:00 p.m. to 2:00 p.m.

Music (review of applications): This meeting will be closed.

Date and time: January 14, 2026; 3:00 p.m. to 5:00 p.m.

Music (review of applications): This meeting will be closed.

Date and time: January 15, 2026; 12:00 p.m. to 2:00 p.m.

Opera (review of applications): This meeting will be closed.

Date and time: January 15, 2026; 3:00 p.m. to 5:00 p.m.

Design and Our Town (review of applications): This meeting will be closed.

Date and time: January 15, 2026; 11:30 a.m. to 1:30 p.m.

Design and Our Town (review of applications): This meeting will be closed.

Date and time: January 15, 2026; 2:30 p.m. to 4:30 p.m.

Literary Arts (review of applications): This meeting will be closed.

Date and time: January 15, 2026; 11:30 a.m. to 1:30 p.m.

Literary Arts (review of applications): This meeting will be closed.

Date and time: January 15, 2026; 2:30 p.m. to 4:30 p.m.

Presenting and Multidisciplinary Works (review of applications): This meeting will be closed.

Date and time: January 20, 2026; 2:00 p.m. to 4:00 p.m.

Presenting and Multidisciplinary Works (review of applications): This meeting will be closed.

Date and time: January 21, 2026; 2:00 p.m. to 4:00 p.m.

Presenting and Multidisciplinary Works (review of applications): This meeting will be closed.

Date and time: January 22, 2026; 2:00 p.m. to 4:00 p.m.

Dance (review of applications): This meeting will be closed.

Date and time: January 26, 2026; 1:00 p.m. to 3:00 p.m.

Folk and Traditional Arts (review of applications): This meeting will be closed.

Date and time: January 27, 2026; 1:00 p.m. to 3:00 p.m.

Arts Education (review of applications): This meeting will be closed.

Date and time: January 27, 2026; 1:30 p.m. to 3:30 p.m.

Dance (review of applications): This meeting will be closed.

Date and time: January 28, 2026; 1:00 p.m. to 3:00 p.m.

Arts Education (review of applications): This meeting will be closed.

Date and time: January 28, 2026; 1:30 p.m. to 3:30 p.m.

Folk and Traditional Arts (review of applications): This meeting will be closed.

Date and time: January 29, 2026; 1:00 p.m. to 3:00 p.m.

Arts Education (review of applications): This meeting will be closed.

Date and time: January 29, 2026; 11:30 a.m. to 1:30 p.m.

Arts Education (review of applications): This meeting will be closed.

Date and time: January 29, 2026; 2:30 p.m. to 4:30 p.m.

Dance (review of applications): This meeting will be closed.

Date and time: January 30, 2026; 1:00 p.m. to 3:00 p.m.

Dated: November 6, 2025.
Daniel Beattie,
Director, Guidelines & Panel Operations National Endowment for the Arts.

[FR Doc. 2025-19845 Filed 11-10-25; 8:45 am]

BILLING CODE 7537-01-P